DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Atlantic Highly Migratory Species Recreational Landings Reports.

OMB Control Number: 0648-0328.

Form Number(s): None.

Type of Request: Regular submission.

Number of Respondents: 11,396.

Average Hours per Response: Internet and Interactive Voice Response landing reports and call-backs for bluefin tuna over 73 inches, 5 minutes; landing cards for Maryland (MD) and North Carolina (NC), 10 minutes; MD and NC weekly reports, 1 hour; MD and NC annual reports, 4 hours.

Burden Hours: 1,439.

Needs and Uses: This information collection consists of a mandatory catch reporting program in the recreational fishery for Atlantic bluefin tuna, Atlantic swordfish, Atlantic blue marlin, Atlantic white marlin, and Atlantic sailfish. Anglers harvesting these species must report through a toll-free telephone system or an Internet site, or through landing card programs administered by some States. Catch monitoring and collection of catch and effort statistics in these fisheries are required under the Atlantic Tunas Convention Act (16 U.S.C. 971 et seq.) and the Magnuson-Stevens Fishery Conservation and Management Act (16 U.S.C. 1801 et seq.). The information collected through this program is essential for the United States to meet its reporting obligations to the International Commission for the Conservation of Atlantic Tunas (ICCAT) and to assure the harvest of these species remains within ICCAT required quotas and landings limits.

Affected Public: Individuals or households; State, local or tribal governments.

Frequency: On occasion, weekly and annually.

Respondent's Obligation: Mandatory.

OMB Desk Officer: David Rostker, (202) 395-3897.

Copies of the above information collection proposal can be obtained by calling or writing Diana Hynek, Departmental Paperwork Clearance Officer, (202) 482-0266, Department of Commerce, Room 7845, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: August 24, 2009.
Gwellnar Banks,
Management Analyst, Office of the Chief Information Officer.

[FR Doc. E9-20663 Filed 8-26-09; 8:45 am]

BILLING CODE 3510-22-P